DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treas.gov/ofac).

Notice of OFAC Actions

On March 5, 2021, OFAC updated the entry on the SDN List for the following person, whose property and interests in property subject to U.S. jurisdiction continue to be blocked under the relevant sanctions authority listed below.

Individual

1. MORTEZAVI, Hasan (a.k.a. MORTEZAVI, Ali Hassan; a.k.a. MORTEZAVI, Majid; a.k.a. MORTEZAVI, Majid Mirali; a.k.a. “ALI, Hassan”); DOB 28 Apr 1961; POB Ghazvin, Iran; citizen Iran; Additional Sanctions Information—Subject to Secondary Sanctions; Passport 7572775 (Iran) (individual) [SDGT] [IRGC] [IFSR].

—to—

1. MORTEZAVI, Hasan (a.k.a. MORTEZAVI, Ali Hassan; a.k.a. MORTEZAVI, Sayyed Hasan; a.k.a. “ALI, Hassan”), Iran; DOB 23 Aug 1964; POB Ghazvin, Iran; citizen Iran; Additional Sanctions Information—Subject to Secondary Sanctions; Gender Male; Passport D9019576 (Iran) (individual) [SDGT] [IRGC] [IFSR].

Designated on August 3, 2010 pursuant to sections 1(c) of E.O. 13224 for acting for or on behalf of the ISLAMIC REVOLUTIONARY GUARD CORPS-QODS FORCE, a person whose property and interests in property are blocked pursuant to E.O. 13224 and 1(d)(i) of E.O. 13224 for providing financial, material, and technological support for, or financial or other services to or in support of, the TALIBAN, a person whose property and interests in property are blocked pursuant to E.O. 13224.

Dated: March 5, 2021.
Bradley T. Smith,
Acting Director, Office of Foreign Assets Control, U.S. Department of the Treasury.

[FR Doc. 2021-04984 Filed 3-9-21; 8:45 am]

BILLING CODE 4810-AL-P